COMMISSION ON CIVIL RIGHTS

Notice of Public Meeting of the Arizona Advisory Committee; Correction

AGENCY: Commission on Civil Rights.

ACTION: Notice; update meeting date.

SUMMARY: The Commission on Civil Rights published a notice in the Federal Register on Monday, August 7, 2023, concerning a meeting of the Arizona Advisory Committee. The meeting date has since changed.

FOR FURTHER INFORMATION CONTACT: Kayla Fajota (DFO), kfajota@usccr.gov, (312) 353-8311.

Correction: In the Federal Register on Monday, August 7, 2023, in FR Document Number 2023-16718, on page 52113, first and second columns, change the meeting date from August 24, 2023, to September 29, 2023.

In addition, the link to join will remain the same: https://www.zoomgov.com/meeting/register/vJItduqtqD0rE4nGesqlMb5mPc5Zrgawg2w.

Dated: August 22, 2023.
David Mussatt,
Supervisory Chief, Regional Programs Unit.

[FR Doc. 2023-18423 Filed 8-25-23; 8:45 am]

BILLING CODE P